DEPARTMENT OF HEALTH AND HUMAN SERVICES

Centers for Disease Control and Prevention

[60Day-24-24HD; Docket No. CDC-2024-0054]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed information collection, as required by the Paperwork Reduction Act of 1995. This notice invites comment on a proposed information collection project titled Adverse Health Outcomes Associated with Medical Tourism Surveillance System. This information collection project will help CDC detect outbreaks and trends in cases to identify prevention measures and improve awareness of risks associated with medical tourism.

DATES: CDC must receive written comments on or before October 8, 2024.

ADDRESSES: You may submit comments, identified by Docket No. CDC-2024-0054 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Adverse Health Outcomes Associated with Medical Tourism Surveillance System—New—National Center for Emerging Zoonotic and Infectious Diseases (NCEZID), Centers for Disease Control and Prevention (CDC).

Background and Brief Description

Millions of Americans travel abroad each year to get medical care. This practice of medical tourism is increasing, with even some U.S.-based health insurance companies sending patients abroad for medical care. Medical tourism has been associated with a variety of adverse health outcomes including serious infection, importation of antibiotic-resistant pathogens to the United States, and death. Outbreaks among medical tourists can be difficult to identify for many reasons. Complications from treatment(s) and procedure(s) obtained abroad are underreported by U.S. healthcare facilities. Jurisdictions throughout the United States have varying policies on reporting medical tourism-related adverse health events to CDC that can lead to underreporting from some jurisdictions. Infections acquired from health care abroad may not be locally or nationally reportable. Currently, there is no national surveillance system or mechanism for states to link cases between jurisdictions for medical tourism-related adverse health outcomes. This makes it difficult to identify patients with exposures linked to the same clinic or provider abroad since they will be returning to different parts of the United States.

Collaboration with state and local health departments is essential to detect outbreaks, and as a federal entity, CDC can fulfill this role. The information collected through this surveillance system will help CDC detect outbreaks and trends in cases to identify prevention measures and improve awareness of risks associated with medical tourism. State and local health departments will conduct surveys and send them electronically to CDC. Data collected will be stored in an electronic database and will be extracted for further analysis.

CDC requests OMB approval for an estimated 438 annual burden hours. There are no costs to respondents other than their time.

Estimated Annualized Burden Hours
Type of respondents | Form name | Number of respondents | Number of responses per respondent | Average burden per response (in hours) | Total burden hours
State/Local Health department staff | Form 1 Medical Tourism Case Intake Form (Part B-Medical Chart Abstraction) | 50 | 15 | 5/60 | 63
Ill persons who have experienced an adverse health outcome related to medical tourism | Form 1 Medical Tourism Case Intake Form (Part A-Interviews) | 750 | 1 | 10/60 | 125
Ill persons who have experienced an adverse health outcome related to medical tourism | Form 2 Medical Tourism Enhanced Surveillance Form | 500 | 1 | 30/60 | 250
Total |  |  |  |  | 438

Jeffrey M. Zirger,
Lead, Information Collection Review Office, Office of Public Health Ethics and Regulations, Office of Science, Centers for Disease Control and Prevention.

[FR Doc. 2024-17764 Filed 8-8-24; 8:45 am]

BILLING CODE 4163-18-P